DEPARTMENT OF AGRICULTURE

Animal and Plant Health Inspection Service

[Docket No. 03-101-3]

Environmental Impact Statement; Petition for Deregulation of Genetically Engineered Glyphosate-Tolerant Creeping Bentgrass

AGENCY: Animal and Plant Health Inspection Service, USDA.

ACTION: Notice of intent to prepare an environmental impact statement and proposed scope of study; reopening of comment period.

SUMMARY: We are reopening the comment period for our notice that advises the public that the Animal and Plant Health Inspection Service intends to prepare an environmental impact statement as part of its consideration of a petition received from Monsanto Company and The Scotts Company for a determination of nonregulated status for a glyphosate-tolerant creeping bentgrass (Agrostis stolonifera). This action will allow interested persons additional time to prepare and submit comments. We are also announcing our intent to hold a public meeting to promote further public involvement in the development of the environmental impact statement. The location and date of the public meeting will be announced in a future issue of the Federal Register.

DATES: We will consider all comments that we receive on or before December 2, 2004.

ADDRESSES: You may submit comments by any of the following methods:

• Postal Mail/Commercial Delivery: Please send four copies of your comment (an original and three copies) to Docket No. 03-101-2, Regulatory Analysis and Development, PPD, APHIS, Station 3C71, 4700 River Road Unit 118, Riverdale, MD 20737-1238. Please state that your comment refers to Docket No. 03-101-2.

• E-mail: Address your comment to regulations@aphis.usda.gov. Your comment must be contained in the body of your message; do not send attached files. Please include your name and address in your message and “Docket No. 03-101-2” on the subject line.

• Agency Web site: Go to http://www.aphis.usda.gov/ppd/rad/cominst.html for a form you can use to submit an e-mail comment through the APHIS Web site.

Reading Room: You may read any comments that we receive on this docket in our reading room. The Reading Room is located in room 1141 of the USDA South Building, 14th Street and Independence Avenue SW., Washington, DC. Normal Reading Room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Susan M. Koehler, BRS, APHIS, 4700 River Road Unit 147, Riverdale, MD 20737-1238; (301) 734-4886.

SUPPLEMENTARY INFORMATION: On April 14, 2003 APHIS received a petition (APHIS Petition No. 03-104-01p) from Monsanto Company (St. Louis, MO) and The Scotts Company (Gervais, OR) (Monsanto/Scotts), requesting deregulation of a creeping bentgrass (Agrostis stolonifera L., synonym A. palustris Huds.) that has been genetically engineered for tolerance to the herbicide glyphosate. The Monsanto/Scotts petition states that the subject creeping bentgrass, designated as event ASR368, should not be regulated by APHIS because it does not present a plant pest risk. (The petition is available on the Internet at http://www.aphis.usda.gov/brs/aphisdocs/03_10401p.pdf.)

In a notice published in the Federal Register on January 5, 2004 (69 FR 315-317, Docket No. 03-101-1), APHIS announced the receipt of the Monsanto/Scotts petition and solicited comments on whether the subject creeping bentgrass would present a plant pest risk. We solicited comments concerning our notice for 60 days, ending March 5, 2004.

On September 24, 2004, APHIS published in the Federal Register (69 FR 57257 57260, Docket No. 03-101-2) a notice advising the public of our decision to prepare an environmental impact statement (EIS) as part of our consideration of petition 03-104-01p. Our decision was based on several factors: (1) Data associated with the petition, (2) a report prepared by the Weed Science Society of America on the weed management implications associated with the potential deregulation and commercialization of glyphosate-tolerant and glufosinate-tolerant creeping bentgrass varieties, (3) our preliminary risk assessment (available on the Internet at http://www.aphis.usda.gov/brs/aphisdocs/03_10401p.pdf), and (4) public comments received in response to our January 5, 2004, notice.

Pursuant to the regulations of the Council on Environmental Quality in 40 CFR 1501.4(d), APHIS has initiated the scoping process as mandated by National Environmental Policy Act of 1969 (NEPA), as amended (42 U.S.C. 4321 et seq.), beginning with the January 5, 2004, Federal Register notice. The comment period for our September 24, 2004, notice of intent closed on October 24, 2004. We are reopening the comment period for an additional 2 weeks from the date of this notice to give interested parties additional time to respond. We will also consider all comments we received between the October 24, 2004, close of the original comment period and the date of this notice.

APHIS has also decided to hold a public meeting to encourage additional public participation in the EIS scoping process. The date and location of the public meeting will be announced on the APHIS Web site (http://www.aphis.usda.gov/brs/brs_meetings.html) and in a future Federal Register notice.

Comments that provide information relevant to the scope identified in the September 24, 2004, Federal Register notice or that identify other potentially significant environmental issues or alternatives that should be examined in the context of the EIS process would be especially helpful. All comments that we received in response to the January 5, 2004, notice will be included as part of this scoping process and need not be resubmitted. We will fully consider all the comments received in response to the January 5, 2004, notice; the comments received on our September 24, 2004, notice of intent; and the comments received at the future public meeting in developing a final scope of study and in preparing the draft EIS. When the draft EIS is completed, we will publish a notice in the Federal Register announcing its availability and inviting the public to comment on it. Following our consideration of the comments received, APHIS will prepare a final EIS; its availability will also be announced in the Federal Register along with a 30-day public comment period, after which the Record of Decision will be issued.

Done in Washington, DC, this 12th day of November 2004.
Elizabeth E. Gaston,
Acting Administrator, Animal and Plant Health Inspection Service.

[FR Doc. E4-3249 Filed 11-17-04; 8:45 am]

BILLING CODE 3410-34-P